DEPARTMENT OF COMMERCE

National Oceanic and Atmospheric Administration

RIN 0648-XH030

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Climate and Communities Core Team (CCCT) will hold a meeting, which is open to the public.

DATES: The meeting will be held on Thursday, May 30 and Friday, May 31, 2019, from 9 a.m. until the completion of business on each day.

ADDRESSES: The meeting will be held at the Sheraton Portland Airport, Cascade C Room, 8235 NE Airport Way, Portland, OR 97220; telephone: (503) 281-2500.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The purpose of this meeting is for the CCCT to gain a full understanding of climate change scenario planning methodologies and begin developing a plan for a Pacific Council-focused scenario planning exercise as part of the Fishery Ecosystem Plan Climate and Communities Initiative. In March 2019 the Pacific Council formed the CCCT and assigned it specific planning tasks to report back on at the September 2019 Council meeting. These tasks are to refine the scenario topic used in the exercise, develop a detailed timeline for the scenario planning process (to be conducted between the September 2019 and March 2020 Pacific Council meetings), and identify participants in the scenario planning exercise. As necessary, the CCCT also may plan future meetings or webinars to complete this assignment.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least ten business days prior to the meeting date.

Dated: May 10, 2019.
Tracey L. Thompson,
Acting Deputy Director, Office of Sustainable Fisheries, National Marine Fisheries Service.

[FR Doc. 2019-10082 Filed 5-14-19; 8:45 am]

BILLING CODE 3510-22-P